DEPARTMENT OF TRANSPORTATION

Pipeline and Hazardous Materials Safety Administration

Hazardous Materials: Notice of Actions on Special Permits

AGENCY: Pipeline and Hazardous Materials Safety Administration (PHMSA), Transportation (DOT).

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 13, 2022.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on April 4, 2022.
Donald P. Burger,
Chief, General Approvals and Permits Branch.

Special Permits Data—Granted
Application No. | Applicant | Regulation(s) affected | Nature of the special permits thereof
12184-M | Weldship LLC | 173.302a(b)(2), 173.302a(b)(3), 173.302a(b)(4), 173.302a(b)(5), 180.205(c), 180.205(f), 180.205(g), 180.205(i), 180.209(a), 180.213 | To modify the special permit to clarify the packaging testing requirements.
14206-M | Hexagon Digital Wave LLC | 180.205, 172.203(a), 172.301(c) | To modify the special permit to authorize DOT-SP 14157 and DOT-SP 13488 cylinders.
14287-M | Troxler Electronic Laboratories, Inc | 173.465, 173.410, 173.411, 173.412, 173.415 | To modify the special permit to authorize additional portable nuclear gauges.
16410-M | Snap-on Incorporated | 172.301(c), 173.185(c)(1)(iii), 173.185(c)(1)(iv), 173.185(c)(3)(i) | To modify the special permit to authorize lithium ion or metal cells or batteries conforming to 49 CFR 173.185(c)(iv).
21163-M | United Initiators, Inc | 178.345-10(b)(1) | To modify the special permit to clarify the synopsis and to authorize customers to load and unload the packagings.
21203-M | Daklapack US Inc | 173.199(a)(1) | To modify the special permit to authorize the use a QR code in lieu of carrying a copy of the special permit aboard each motor vehicle and cargo-only aircraft and the manufacture of the packaging and to clarify end-user requirements.
21302-N | Taylor-Wharton Malaysia Sdn. Bhd | 173.316 | To authorize the manufacture, mark, sale, and use of a specification DOT 4L cylinder for the transportation in commerce of the methane, refrigerated liquid.
21304-N | Freewire Technologies, Inc | 172.101(j), 173.24(e)(4) | To authorize the transportation in commerce of lithium batteries contained in equipment, that exceed 35 kg net weight, by cargo-only aircraft.
21308-N | Micropore, Inc | 173.240(d) | To authorize the transportation in commerce of lithium hydroxide in non-DOT specification packaging by ground transport.
21314-N | Samsung SDI America, Inc | 172.101(j) | To authorize the transportation in commerce of lithium batteries exceeding 35 kg by cargo-only aircraft.
21317-N | Spaceflight, Inc | 173.185(a)(1) | To authorize the transportation in commerce of prototype or low production lithium ion batteries contained in equipment (spacecraft).

Special Permits Data—Denied
Application No. | Applicant | Regulation(s) affected | Nature of the special permits thereof
7765-M | Cobham Mission Systems Orchard Park Inc | 173.302a(a)(1) | To modify the special permit to remove certain part numbers and to increase the maximum service pressure.
21206-N | Pacira Cryotech, Inc | 171.23(a)(2)(iv), 173.304(f)(1), 173.304(f)(2) | To authorize the transportation in commerce of small cartridges manufactured to ISO 11118, and are not equipped with pressure relief devices, by air.
21279-M | Davey Bickford USA, Inc | 173.56(b) | To modify the special permit to authorize passenger-carrying aircraft as a mode.
21286-N | BASF Corporation | 180.605(h)(3) | To authorize the requalification of portable tanks without requiring a DAA to witness the testing.
21325-N | Western International Gas & Cylinders, Inc | 171.12(a)(4) | To authorize the requalification of acetylene cylinders authorized by Transport Canada but are not authorized for transport of hazardous materials in the United States.

Special Permits Data—Withdrawn
Application No. | Applicant | Regulation(s) affected | Nature of the special permits thereof
21201-N | Mitsubishi Motors North America, Inc | 172.101(j) | To authorize the transportation in commerce of lithium ion batteries exceeding 35 kg by cargo-only aircraft.
21338-N | Air Resources Helicopters Inc | 172.101(a) | To authorize the transportation in commerce of certain hazardous materials by 14 CFR Part 133 cargo-only aircraft (rotorcraft external load operations) transporting hazardous materials attached to or suspended from the aircraft, and Part 135, as applicable, in remote areas of the US only, without being subject to certain hazard communication requirements, quantity limitations and certain loading and stowage requirements.
21348-N | FAZUA GmbH | 173.185(a)(1) | To authorize the transportation in commerce of prototype lithium batteries by cargo-only aircraft.

[FR Doc. 2022-07899 Filed 4-12-22; 8:45 am]

BILLING CODE 4910-60-P